DEPARTMENT OF AGRICULTURE

Forest Service

National Advisory Committee for Implementation of the National Forest System Land Management Planning Rule

AGENCY: USDA Forest Service.

ACTION: Call for nominations.

SUMMARY: The National Advisory Committee for Implementation of the National Forest System (NFS) Land Management Planning Rule (Committee) was re-established, in the public interest, on February 3, 2016, to continue providing advice and recommendations on the implementation of the NFS Land Management Planning Rule (Planning Rule). Therefore, the Secretary of Agriculture is seeking nominations for individuals to be considered as Committee members. The public is invited to submit nominations for membership. Committee information can be found at the following Web site: http://www.fs.usda.gov/main/planningrule/committee.

DATES: Written nominations must be received by July 11, 2016. The package must be sent to the address below.

ADDRESSES: Send nominations and applications to USDA Forest Service, NFS—Ecosystem Management Coordination, Mail Stop 1106, 201 14th Street Southwest, Mailstop 1106, Washington, DC 20025; by express mail or overnight courier service. If sent via the U.S. Postal Service, they must be sent to the following address: U.S. Department of Agriculture, Forest Service, Ecosystem Management Coordination, 1400 Independence Avenue Southwest, Mailstop 1106, Washington, DC 20250-1106.

FOR FURTHER INFORMATION CONTACT: Chris French, Designated Federal Officer, by telephone at 202-205-0895 or via email at cfrench@fs.fed.us; or Jennifer Helwig, Committee Coordinator, by phone at 202-205-0892 or via email at jahelwig@fs.fed.us.

Individuals who use telecommunication devices for the deaf (TDD) may call the Federal Information Relay Service (FIRS) at 1-800-877-8339 between 8:00 a.m. and 8:00 p.m., Eastern Standard Time, Monday through Friday.

SUPPLEMENTARY INFORMATION:

Background

The purpose of the Committee is to provide advice and recommendations on implementation of the Planning Rule. To date, the current Committee officially transmitted their recommendations to improve the transition process for Forest Service leadership and planning teams; recommendations to produce a Planning 101 video; and recommendations for the development of assessments. The current Committee's membership will expire in September 2016. The Committee will be asked to perform the following duties or other requests made by the Secretary of Agriculture or the Chief of the Forest Service:

1. Offer recommendations on outreach efforts, public engagement, and stakeholder collaboration;

2. Offer recommendations on broad scale and multiparty monitoring and other ways to engage partnerships in land management plan revisions;

3. Offer recommendations on communication tools and strategies to help provide greater understanding of the land management planning process; and

4. Offer recommendations on potential best management practices and problem solving resulting from early implementation of the 2012 Planning Rule.

Advisory Committee Organization

This Committee will be comprised of not more than 21 members who provide balanced and broad representation within each of the following three categories of interests:

1. Up to 7 members who represent one or more of the following:

a. Represent the Affected Public-At-Large,

b. Hold State-Elected Office (or designee),

c. Hold County or Local-Elected Office,

d. Represent American Indian Tribes, and

e. Represent Youth.

2. Up to 7 members who represent one or more of the following:

a. National, Regional, or Local Environmental Organizations,

b. Conservation Organizations or Watershed Associations,

c. Dispersed Recreation Interests,

d. Archaeological or Historical interests, and

e. Scientific Community.

3. Up to 7 members who represent one or more of the following:

a. Timber Industry,

b. Grazing or Other Land Use Permit Holders or Other Private Forest Landowners,

c. Energy and Mineral Development,

d. Commercial or Recreational Hunting and Fishing Interests, and

e. Developed Outdoor Recreation, Off-Highway Vehicle Users, or Commercial Recreation Interests.

The Committee will meet three to six times annually or as often as necessary and at such times as designated by the Designated Federal Officer.

The appointment of members to the Committee will be made by the Secretary of Agriculture. Any individual or organization may nominate one or more qualified persons to serve on the Committee. Individuals may also nominate themselves. To be considered for membership, nominees must submit a:

1. Resume describing qualifications for membership to the Committee;

2. Cover letter with a rationale for serving on the Committee and what you can contribute; and

3. Complete form AD-755: Advisory Committee Membership Background Information.

Letters of recommendation are welcome. The form AD-755 may be obtained from the following Web site: http://www.fs.usda.gov/main/planningrule/committee; or via email from Jennifer Helwig at jahelwig@fs.fed.us. All nominations will be vetted by USDA. The Secretary of Agriculture will appoint committee members to the Committee from the list of qualified applicants.

Members of the Committee will serve taken into account the needs of the diverse groups served by USDA, membership shall include to the extent possible, individuals with demonstrated ability to represent minorities, women, and persons with disabilities.

Dated: May 12, 2015.
Gregory L. Parham,
Assistant Secretary for Administration.

[FR Doc. 2016-12313 Filed 5-24-16; 8:45 am]

BILLING CODE 3411-15-P